DEPARTMENT OF HOMELAND SECURITY

Transportation Security Administration

Reinstatement of Agency Information Collection Activity Under OMB Review: Aircraft Operator Security

AGENCY: Transportation Security Administration, DHS.

ACTION: 30-Day notice.

SUMMARY: This notice announces that the Transportation Security Administration (TSA) has forwarded the Information Collection Request (ICR), Office of Management and Budget (OMB) control number 1652-0003, abstracted below, to OMB to review and approve the reinstatement of this previously approved collection under the Paperwork Reduction Act (PRA). The ICR describes the nature of the information collection and its expected burden. Aircraft operators must provide certain information to TSA and adopt and implement a TSA-approved security program. These programs require aircraft operators to maintain and update records to ensure compliance with security provisions set forth in 49 CFR part 1544.

DATES: Send your comments by July 22, 2024. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Nicole Raymond, TSA PRA Officer, Information Technology (IT), TSA-11, Transportation Security Administration, 6595 Springfield Center Drive, Springfield, VA 20598-6011; telephone (571) 227-2526; email TSAPRA@tsa.dhs.gov.

SUPPLEMENTARY INFORMATION: TSA published a Federal Register notice, with a 60-day comment period soliciting comments, of the following collection of information on July 20, 2023, 88 FR 46805.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aircraft Operator Security, 49 CFR part 1544.

Type of Request: Reinstatement of a previously approved collection.

OMB Control Number: 1652-0003.

Forms(s): N/A.

Affected Public: Aircraft Operators.

Abstract: TSA's aircraft operator security standards regulations, codified at 49 CFR part 1544, require aircraft operators to adopt, maintain, update, and comply with TSA-approved comprehensive security programs to ensure the safety of persons and property traveling on their flights against acts of criminal violence and air piracy, and the introduction of explosives, incendiaries, or weapons aboard an aircraft. In addition, part 1544 requires the affected aircraft operators to submit information on aircraft operators' flight crews and other employees, passengers, and cargo. The information collection includes information regarding security program, amendments, fingerprint based criminal history records check (CHRC) applications; recordkeeping requirements for security program, CHRCs, and training. These programs and related records are subject to TSA inspection.

Number of Respondents: 634.

Estimated Annual Burden Hours: An estimated 542,632 hours annually.

Dated: June 14, 2024.
Nicole Raymond,
TSA Paperwork Reduction Act Officer, Information Technology.

[FR Doc. 2024-13483 Filed 6-18-24; 8:45 am]

BILLING CODE 9110-05-P